DEPARTMENT OF THE INTERIOR

Bureau of Land Management

[CA-350-1430-EU; CACA-20540]

Opening Order

AGENCY: United States Department of the Interior, Bureau of Land Management.

ACTION: Termination of Recreation and Public Purposes Classification and Opening Order, Lassen County, California.

SUMMARY: This notice effects public lands in Lassen County, California within T.30 N., R.12 E., Section 21, W½SESE, M.D.M. Classification under the Recreation and Public Purposes Act is terminated by this notice and opens the affected lands to disposal by exchange.

EFFECTIVE DATE: September 28, 2000.

FOR FURTHER INFORMATION CONTACT: Susan Wannebo, Realty Specialist, Eagle Lake Field Office, BLM, 2950 Riverside Drive, Susanville CA 96130, (530) 257-0456.

Dated: September 22, 2000.
Linda D. Hansen,
Field Manager.

[FR Doc. 00-24898 Filed 9-27-00; 8:45 am]

BILLING CODE 4310-40-P